DEPARTMENT OF LABOR

Employment and Training Administration

[TA-W-65,176]

Hewlett Packard, Personal Laser Solutions Division, Boise, ID; Notice of Termination of Investigation

Pursuant to Section 221 of the Trade Act of 1974, as amended, an investigation was initiated on February 9, 2009 in response to a worker petition filed on behalf of workers of Hewlett Packard, Personal Laser Solutions Division, Boise, Idaho.

The petitioners have requested that the petition be withdrawn. Consequently, the investigation has been terminated.

Signed at Washington, DC, this 9th day of March 2009.
Richard Church,
Certifying Officer, Division of Trade Adjustment Assistance.

[FR Doc. E9-5909 Filed 3-18-09; 8:45 am]

BILLING CODE 4510-FN-P